DEPARTMENT OF TRANSPORTATION

Pipeline and Hazardous Materials Safety Administration

49 CFR Part 193

[Docket No. PHMSA-2019-0091]

Pipeline Safety: Notice of Intent To Prepare an Environmental Impact Statement for the Amendments to Liquefied Natural Gas Facilities Rulemaking

AGENCY: Pipeline and Hazardous Materials Safety Administration (PHMSA), Department of Transportation (DOT).

ACTION: Notice of intent to prepare an environmental impact statement.

SUMMARY: In accordance with the National Environmental Policy Act, PHMSA intends to prepare an environmental impact statement (EIS) analyzing the potential environmental impacts of amendments to the pipeline safety regulations governing liquefied natural gas (LNG). This document initiates the process for determining the scope of considerations to be addressed in the EIS and for identifying any significant environmental matters related to the proposed action. PHMSA invites comments from Federal, State, and local agencies, Indian tribes, stakeholders, and the public in this scoping process to help identify any matters of environmental significance, as well as reasonable alternatives to be examined in the EIS.

DATES: The scoping process is anticipated to culminate in the preparation and issuance of a Draft EIS, which would be made available for public comment concurrently with the issuance of a Notice of Proposed Rulemaking (NPRM). Scoping comments should be received on or before July 7, 2025, to ensure that PHMSA has an opportunity to consider scoping comments. PHMSA will consider comments received after that date to the extent the rulemaking schedule allows.

ADDRESSES: You may submit comments identified by Docket Number PHMSA-2019-0091 using any of the following methods:

E-Gov Web: https://www.regulations.gov. This site allows the public to enter comments on any Federal Register notice issued by any agency. Follow the online instructions for submitting comments.

Mail: Docket Management System: U.S. Department of Transportation, 1200 New Jersey Avenue SE, West Building Ground Floor, Room W12-140, Washington, DC 20590-0001.

Hand Delivery: U.S. DOT Docket Management System: West Building Ground Floor, Room W12-140, 1200 New Jersey Avenue SE, between 9 a.m. and 5 p.m., Monday through Friday, except Federal holidays.

Fax: 1-202-493-2251.

Instructions: Please include the docket number PHMSA-2019-0091 at the beginning of your comments. If you submit your comments by mail, submit two copies. If you wish to receive confirmation that PHMSA received your comments, include a self-addressed stamped postcard. Internet users may submit comments at https://www.regulations.gov.

Note: Comments are posted without changes or edits to https://www.regulations.gov, including any personal information provided. There is a privacy statement published on https://www.regulations.gov.

Privacy Act: In accordance with 5 United States Code (U.S.C. 553(c)), DOT solicits comments from the public to inform its rulemaking process better. DOT posts these comments, without edit, including any personal information the commenter provides, to https://www.regulations.gov, as described in the system of records notice (DOT/ALL-14 FDMS), which can be reviewed at https://www.dot.gov/privacy.

Confidential Business Information: Confidential Business Information (CBI) is commercial or financial information that is both customarily and actually treated as private by its owner. Under the Freedom of Information Act (FOIA, 5 U.S.C. 552), CBI is exempt from public disclosure. It is important that you clearly designate the comments submitted as CBI if: your comments responsive to this document contain commercial or financial information that is customarily treated as private; you actually treat such information as private; and your comment is relevant or responsive to this document. Pursuant to 49 Code of Federal Regulations (CFR) 190.343, you may ask PHMSA to provide confidential treatment to information you give to the agency by taking the following steps: (1) mark each page of the original document submission containing CBI as “Confidential”; (2) send PHMSA, along with the original document, a second copy of the original document with the CBI deleted; and (3) explain why the information that you are submitting is CBI. Submissions containing CBI should be sent to Brianna Wilson, Office of Pipeline Safety (PHP-30), Pipeline and Hazardous Materials Safety Administration (PHMSA), 2nd Floor, 1200 New Jersey Avenue SE, Washington, DC 20590-0001, or by email at brianna.wilson@dot.gov. Any materials PHMSA receives that is not specifically designated as CBI will be placed in the public docket.

Docket: For access to the docket to read background documents or comments received, go to https://www.regulations.gov. Follow the online instructions for accessing the docket. Alternatively, you may review the documents in person at the street address listed above.

FOR FURTHER INFORMATION CONTACT: Carolyn Nelson, Office of Planning and Analytics, PHMSA, by email at Carolyn.Nelson@dot.gov or by phone at 202-860-6173.

SUPPLEMENTARY INFORMATION: In a forthcoming notice of proposed rulemaking (NPRM), PHMSA will propose amendments to the safety standards in 49 CFR part 193 for the siting, design, installation, construction, inspection, testing, operation, and maintenance of liquefied natural gas (LNG) facilities. PHMSA has recently issued an advance notice of proposed rulemaking (ANPRM) soliciting stakeholder feedback on potential amendments to include in the forthcoming NPRM.¹

¹ PHMSA, “Advance Notice of Proposed Rulemaking: Amendments to Liquefied Natural Gas Facilities,” 90 FR 18949 (May 5, 2025).

The National Environmental Policy Act (NEPA; 42 U.S.C. 4321 et seq.) requires Federal agencies to analyze proposed actions to determine whether the action would have a significant impact on the human and natural environment. If the proposed action has a reasonably foreseeable significant effect on the quality of the human and natural environment, the agency is required to issue an environmental impact statement (EIS) (42 U.S.C. 4336(b)(1)). In connection with the action described above, PHMSA intends to prepare an EIS to analyze the potential environmental impacts of the proposed reasonable alternatives for amending 49 CFR part 193 pursuant to NEPA. To inform decisionmakers and the public, the EIS would analyze the reasonably foreseeable environmental impacts of the agency's Preferred Alternative and a range of reasonable alternatives, including a “no action” alternative.

Purpose and Need

PHMSA has not revised the safety standards in 49 CFR part 193 since the early 2000s and many of the concepts in the current regulations date to the 1970s. The Government Accountability Office (GAO) and industry stakeholders have urged PHMSA to update 49 CFR part 193 to address the significant changes that have occurred in the LNG industry in recent years. Congress also included rulemaking mandates directing PHMSA to adopt new requirements for “permanent, small scale” LNG facilities in section 27 of the Protecting our Infrastructure of Pipelines and Enhancing Safety Act of 2016 (PIPES Act of 2016, Pub. L. 114-183), and to prescribe risk-based regulations for large-scale LNG facilities, other than peak-shaving facilities, in section 110 of the Protecting our Infrastructure of Pipelines and Enhancing Safety Act of 2020 (PIPES Act of 2020, Pub. L. 116-2600).

PHMSA intends to amend 49 CFR part 193 to address these congressional mandates, to account for current technologies, best practices, and lessons learned, and to incorporate recent editions of consensus industry standards by reference, 49 U.S.C. 60102(l). PHMSA's effort to update 49 CFR part 193 advances President Trump's goal of unleashing American energy and achieving economic prosperity by alleviating unnecessary regulatory burdens as well.²

² See, e.g., E.O. 14192, “Unleashing Prosperity Through Deregulation,” 90 FR 9065 (Feb. 6, 2025); E.O. 14152, “Unleashing American Energy,” 90 FR 8353 (Jan. 29, 2025); E.O. 14156, “Declaring a National Energy Emergency,” 90 FR 8433 (Jan. 29, 2025).

Alternatives Under Consideration

PHMSA is proposing to update its safety standards for LNG facilities to address congressional mandates, to account for current technologies, best practices, and lessons learned, and to incorporate recent editions of consensus industry standards by reference. To achieve these objectives, PHMSA would amend the regulations in 49 CFR part 193 that apply to the siting, design, installation, construction, inspection, testing, operation, and maintenance of LNG facilities, by incorporating more recent editions of industry standards by reference. Accordingly, the proposed action for consideration in the EIS includes the following components: (1) revising 49 CFR part 193 to incorporate by reference provisions of the 2023 edition of National Fire Protection Association (NFPA) Standard 59A, “Standard for the Production, Storage, and Handling of Liquefied Natural Gas”; (2) implementing the congressional mandate in section 27 of the PIPES Act of 2016 ³ pertaining to safety standards for permanent, small-scale LNG facilities; and (3) implementing the congressional mandate in section 110 of the PIPES Act of 2020 ⁴ to adopt a risk-based regulatory approach for operations and maintenance for large-scale LNG facilities (other than peak-shaving facilities).

³ Public Law 114-183, see https://www.govinfo.gov/content/pkg/COMPS-12081/pdf/COMPS-12081.pdf.

⁴ Public Law 116-260, see https://www.govinfo.gov/content/pkg/PLAW-116publ260/pdf/PLAW-116publ260.pdf.

PHMSA would also consider a no action alternative. The no action alternative serves as a baseline to compare the potential environmental impacts of the proposed action and alternatives.

Consideration of Expected Impacts

PHMSA's NEPA analysis will consider reasonably foreseeable effects of the proposed action and the reasonable alternatives. PHMSA intends to develop regulations that may alter the siting, design, installation, construction, inspection, testing, operation, and maintenance activities of LNG facilities. PHMSA anticipates evaluating the following potential impacts in the EIS, including but not limited to reasonably foreseeable:

• Effects on populations located near LNG facilities;

• Impacts related to public safety and human health in the event of accidental release of hazardous substances from LNG facilities;

• Effects on human health from factors such as emissions of air pollutants;

• Effects on socioeconomic factors such as economy, employment, transportation (e.g., road, and marine);

• Effects on historic and cultural resources;

• Effects on land use; and

• Effects on natural resources.

Permits and Authorizations

PHMSA does not authorize the construction or operation of LNG facilities. PHMSA's forthcoming NPRM would not authorize any construction activities or require any permits or authorizations. Agencies that would like to request cooperating or participating agency status should follow the instructions for filing comments provided under the ADDRESSES section above.

Scoping Process

PHMSA anticipates its NEPA analysis will consider reasonably foreseeable effects of the proposed amendments to 49 CFR part 193 and reasonable alternatives. The public is encouraged to provide information and comments on the range of alternatives and the potential environmental impacts that could result from this action. All comments relevant to the scoping process are welcome.

The public may comment by using any of the methods described in the ADDRESSES section of this document. PHMSA anticipates written comments will be effective in identifying and narrowing the considerations for analysis.

Schedule for Decisionmaking

PHMSA will consider the comments received in response to this document in determining next steps. If necessary, separate Federal Register documents will announce the availability of a Draft EIS, which will be available for public comment, and a Final EIS. If prepared, PHMSA will issue the Draft EIS concurrently with its NPRM. PHMSA will simultaneously issue a Final EIS and Record of Decision (Final Rule) pursuant to 49 U.S.C. 304a unless it is determined that statutory criteria or practicability considerations preclude concurrent issuance.

Issued in Washington, DC, on June 3, 2025, under authority delegated in 49 CFR 1.81(a)(5).
Benjamin D. Kochman,
Acting Administrator.

[FR Doc. 2025-10348 Filed 6-5-25; 8:45 am]

BILLING CODE 4910-60-P